DEPARTMENT OF THE INTERIOR

Bureau of Reclamation

[FES 07-05]

Upper Rio Grande Basin Water Operations Review

AGENCY: Bureau of Reclamation, Interior.

ACTION: Notice of Availability for the Final Environmental Impact Statement for the Upper Rio Grande Basin Water Operations Review.

SUMMARY: Pursuant to the National Environmental Policy Act of 1969 (as amended), the Bureau of Reclamation (Reclamation), with and on behalf of other joint-lead agencies [U.S. Army Corps of Engineers (Corps), Department of Defense; and the New Mexico Interstate Stream Commission (Commission), State of New Mexico], has prepared and made available to the public a final environmental impact statement (FEIS) to assess the consequences of proposed changes to water operations in the Rio Grande basin above Fort Quitman, Texas. The FEIS is programmatic and is not intended to authorize specific projects in the upper Rio Grande system. It is anticipated that a plan for water operations at existing Reclamation and Corps facilities will be developed.

The FEIS presents alternatives with respect to water operations and evaluates the potential effects of each alternative on environmental, hydrologic, cultural, and socioeconomic resources, and Indian Trust Assets, including any potential disproportionate effects on minority or low income communities (environmental justice). The FEIS also evaluates the effects of alternatives on the State of New Mexico's ability to meet its obligations associated with the Rio Grande Compact. Some of the alternatives considered include changing the channel capacity criteria at Albuquerque, storage or non-storage of Rio Grande water in authorized San Juan-Chama space in Abiquiu Reservoir, and possible future resumption of operations of the currently unfunctional Low Flow Conveyance Channel.

A draft environmental impact statement (DEIS) was filed with the Environmental Protection Agency on January 20, 2006, and a Notice of Availability for the DEIS was published in the Federal Register on that same date. The original 60-day review and comment period for the DEIS was extended an additional 30 days to April 20, 2006, with publication of a Notice of Extension in the Federal Register on March 24, 2006. During the comment period, one public meeting was held in Colorado, one public meeting was held in Texas, and six public meetings were held in New Mexico. All comments received on the DEIS were carefully reviewed and considered in preparing the FEIS. Where appropriate, revisions were made to the document in response to specific comments. The comments and responses, together with the FEIS, will be considered in determining whether or not to implement the proposed action.

ADDRESSES: The FEIS is electronically available for viewing and copying at the Corps' Albuquerque District Web site at: http://www.spa.usace.army.mil/urgwops/default.asp. Alternatively, a compact disc or hard copy is available upon written request to Ms. Valda Terauds, Bureau of Reclamation, Albuquerque Area Office, 555 Broadway NE, Suite 100, Albuquerque, New Mexico 87102.

Copies of the FEIS are available for public inspection and review at the following locations:

• Bureau of Reclamation, Albuquerque Area Office, 555 Broadway NE., Suite 100, Albuquerque, New Mexico 87102

• Southern Peaks Public Library, 423 4th Street, Alamosa, Colorado 81101

• Taos Public Library, 402 Camino de la Placita, Taos, New Mexico 87571

• City of Española Library, 405 Paseo de Onate, Española, New Mexico 87532

• Albuquerque Main Library, 501 Copper NW., Albuquerque, New Mexico 87102

• Santa Fe Public Library, 145 Washington Street, Santa Fe, New Mexico 87501

• El Paso Public Library, Clardy Fox Branch, 5515 Robert Alva Avenue, El Paso, Texas 79905

• Thomas Branigan Memorial Library, 200 East Picacho Avenue, Las Cruces, New Mexico 88001

• Socorro Public Library, 401 Park Street, Socorro, New Mexico 87801

FOR FURTHER INFORMATION CONTACT: Ms. Valda Terauds, Bureau of Reclamation, Albuquerque Area Office, 555 Broadway NE., Suite 100, Albuquerque, New Mexico 87102; telephone 505-462-3584; facsimile 505-462-3593; e-mail: vterauds@uc.usbr.gov.

Ms. April Sanders, U.S. Army Corps of Engineers Albuquerque District, 4101 Jefferson Plaza NE, Albuquerque, New Mexico 87109; telephone 505-342-3443; facsimile 505-342-3195; e-mail: april.f.sanders@usace.army.mil.

Mr. Nabil Shafike, PhD, New Mexico Interstate Stream Commission, 121 Tijeras NE, Suite 2000, Albuquerque, New Mexico 87102; telephone 505-764-3866; facsimile 505-764-3893; e-mail: nabil.shafike@state.nm.us.

SUPPLEMENTARY INFORMATION: Pursuant to various legal authorities, and subject to allocation of supplies and priority of water rights under state law, Reclamation and the Corps operate dams, reservoirs, and other facilities in the upper Rio Grande basin to:

(1) Store and deliver water for agricultural, domestic, municipal, industrial, and environmental uses;

(2) Assist the Commission in meeting downstream water delivery obligations mandated by the Rio Grande Compact;

(3) Provide flood protection and sediment control; and

(4) Comply with existing laws, contract obligations, and international treaties.

The Upper Rio Grande Basin Water Operations Review (Review) provides the basis of, and is integral to, preparation of the FEIS. The purpose of the Review and FEIS is to:

(1) Identify flexibilities in operation of federal reservoirs and facilities in the upper Rio Grande basin that are within existing authorities of Reclamation, the Corps, and the Commission, and in compliance with Federal and State laws;

(2) Develop a better understanding of how these facilities could be operated more efficiently and effectively as an integrated system;

(3) Formulate a plan for future water operations at these facilities that is within the existing authorities of Reclamation, the Corps, and the Commission; complies with Federal, State, and other applicable laws and regulations; and assures continued safe dam operations;

(4) Improve processes for making decisions about water operations through better interagency communication and coordination and facilitation of public review and input; and

(5) Support compliance by the Corps, Reclamation, and the Commission with applicable laws and regulations, including, but not limited to, the National Environmental Policy Act and the Endangered Species Act.

The FEIS addresses water operations at the following facilities with the noted exceptions and limitations:

• Flood control operations at Platoro Reservoir (the Review and FEIS include only flood control operations at Platoro that are under the Corps' authority; water supply operations at Platoro are under local control)

• Closed Basin Division-San Luis Valley Project

• Heron Dam and Reservoir

• Abiquiu Dam and Reservoir

• Cochiti Dam and Reservoir

• Low Flow Conveyance Channel

• Flood control operations at Elephant Butte Dam and Reservoir (because of current litigation, water supply operations at Elephant Butte are not included in the Review or FEIS)

• Flood control operations at Caballo Dam and Reservoir (because of current litigation, water supply operations at Caballo are not included in the Review or FEIS).

Proposed Federal Action

Reclamation, the Corps, and the Commission identified Alternative E-3 as the preferred alternative for water operations in the upper Rio Grande basin. This alternative allows for increased native (Rio Grande) water conservation and storage in Abiquiu Reservoir, maintains current channel capacity below Abiquiu Dam, increases channel capacity below Cochiti Dam, and allows a full range of operation for the Low Flow Conveyance Channel, with continued communication and coordination for flood control operations at Elephant Butte and Caballo Dams.

No decision will be made on the proposed Federal action until 60 days after the release of the FEIS. After the 60-day waiting period, Reclamation, the Corps, and the Commission will complete individual agency Records of Decision. The Records of Decision will identify the action(s) that will be implemented and discuss all factors leading to the decision(s).

Dated: March 2, 2007.
Rick L. Gold,
Regional Director—Upper Colorado Region, Bureau of Reclamation.

[FR Doc. E7-7034 Filed 4-19-07; 8:45 am]

BILLING CODE 4310-MN-P